DEPARTMENT OF HOMELAND SECURITY

Bureau of Customs and Border Protection

DEPARTMENT OF THE TREASURY

19 CFR Parts 4, 7, 10, 102, 134, and 177

[USCBP-2007-0100]

RIN 1505-AB49

Uniform Rules of Origin for Imported Merchandise

AGENCIES: Customs and Border Protection, Department of Homeland Security; Department of the Treasury.

ACTION: Notice of proposed rulemaking; extension of comment period.

SUMMARY: This document provides an additional 30 days for interested parties to submit comments on the proposed rule to amend the Customs and Border Protection (“CBP”) regulations to establish uniform rules governing CBP determinations of the country of origin of imported merchandise. The proposed rule was published in the Federal Register on July 25, 2008 (73 FR 43385), and the comment period was scheduled to expire on September 23, 2008.

DATES: Comments on the proposed rule must be received on or before October 23, 2008.

ADDRESSES: You may submit comments, identified by docket number, by one of the following methods:

• Federal eRulemaking Portal: http://www.regulations.gov. Follow the instructions for submitting comments via docket number USCBP-2007-0100.

• Mail: Trade and Commercial Regulations Branch, Regulations and Rulings, Office of International Trade, U.S. Customs and Border Protection, 1300 Pennsylvania Avenue, NW., (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may be inspected during regular business days between the hours of 9 a.m. and 4:30 p.m. at the Trade and Commercial Regulations Branch, Regulations and Rulings, Office of International Trade, U.S. Customs and Border Protection, 799 9th Street, NW., 5th Floor, Washington, DC. Arrangements to inspect submitted comments should be made in advance by calling Mr. Joseph Clark at (202) 572-8768.

FOR FURTHER INFORMATION CONTACT: Monika Brenner, Valuation and Special Programs, Office of International Trade, 202-572-8835; Heather K. Pinnock, Tariff Classification and Marking, Office of International Trade, 202-572-8828.

SUPPLEMENTARY INFORMATION:

Public Participation

Interested persons are invited to participate in this rulemaking by submitting written data, views, or arguments on all aspects of the proposed rule. CBP also invites comments that relate to the economic, environmental, or federalism effects that might result from this proposed rule. Comments that will provide the most assistance to CBP will reference a specific portion of the proposed rule, explain the reason for any recommended change, and include data, information, or authority that support such recommended change. See ADDRESSES above for information on how to submit comments.

Background

CBP published a notice of proposed rulemaking in the Federal Register (73 FR 43385) on July 25, 2008, proposing to amend the CBP regulations to establish uniform rules of origin for imported merchandise. The proposed rule would extend application of the country of origin rules codified in 19 CFR part 102. Those rules have proven to be more objective and transparent and provide greater predictability in determining the country of origin of imported merchandise than the system of case-by-case adjudication they would replace. The proposed change also will aid an importer's exercise of reasonable care. In addition, the document proposes to amend the country of origin rules applicable to pipe fitting and flanges, printed greeting cards, glass optical fiber, and rice preparations. Finally, the proposed rule would amend the textile regulations set forth in § 102.21 to make corrections so that the regulations reflect the language of section 334(b)(5) of the Uruguay Round Agreements Act.

The notice of proposed rulemaking invited the public to comment on the proposal. Comments on the proposed rule were requested on or before September 23, 2008.

Extension of Comment Period

In response to the proposed rule published in the Federal Register, CBP has received correspondence from several parties requesting an extension of the comment period. A decision has been made to grant an extension of 30 days. Comments are now due on or before October 23, 2008.

Dated: September 2, 2008.
Harold M. Singer,
Director, Regulations and Disclosure Law Division, Regulations and Rulings, Office of International Trade.
Timothy E. Skud,
Deputy Assistant Secretary (Tax, Trade and Tariff Policy), Office of Tax Policy, United States Treasury Department.

[FR Doc. E8-20662 Filed 9-5-08; 8:45 am]

BILLING CODE 9111-14-P